DEPARTMENT OF THE TREASURY

United States Mint

AGENCY: United States Mint, Department of the Treasury.

ACTION: Notice of Stakeholder Meeting.

SUMMARY: Pursuant to the Coin Modernization, Oversight, and Continuity Act of 2010 (Pub. L. 111-302), the United States Mint announces a stakeholder meeting for the purpose of obtaining direct, first-hand input on the impacts of alternative metal compositions for circulating coinage from interested members of businesses, industries, and agencies.

Date: Thursday, March 13, 2014.

Time: 10:30 a.m. to 3:30 p.m. (EDT).

Location: United States Mint; 801 Ninth Street NW.; Washington, DC, 2nd floor.

Subject: The purpose of this meeting is to invite members of stakeholder organizations to directly share their perspectives concerning circulating coins and the impacts of alternative metal compositions. This input will support the Secretary of the Treasury in understanding the balance of interests and impacts to the public, private industry stakeholders, and the Government.

Information: Attendees are invited to the following link for a copy of the United States Mint's bi-annual report to Congress, December 2012 and the Alternatives Metals study, completed August 2012. http://www.usmint.gov/about_the_mint/?action=biennialreport. The study discusses alternative metals that could potentially change the following attributes: Weight, color, electromagnetic signature. The study also touches on implementation and transition periods.

SUPPLEMENTARY INFORMATION: Under the Coin Modernization, Oversight, and Continuity Act of 2010, in conducting research and development on circulating coins, the Secretary of the Treasury is required to consider:

(A) Factors relevant to the potential impact of any revisions to the composition of the material used in coin production on the current coinage material suppliers;

(B) Factors relevant to the ease of use and ability to co-circulate new coinage materials, including the effect on vending machines and commercial coin processing equipment and making certain, to the greatest extent practicable, that any new coins work without interruption in existing coin acceptance equipment without modification; and

(C) Such other factors that the Secretary of the Treasury, in consultation with merchants who would be affected by any change in the composition of circulating coins, vending machine, and other coin acceptor manufacturers; vending machine owners and operators; transit officials; municipal parking officials; depository institutions; coin and currency handlers; armored-car operators; car wash operators; and American-owned manufacturers of commercial coin processing equipment, considers to be appropriate and in the public interest.

Special Accommodations: This meeting is physically accessible to people with disabilities. Requests for sign language interpretation or other related accommodations should be directed to the Office of Coin Studies (see FOR FURTHER INFORMATION CONTACT) as soon as possible but no later than March 3, 2014.

This is not a public meeting. Attendance is by invitation only. Persons interested in attending the meeting should use the contact information provided in this notice no later than Monday, March 10, 2014 to request an invitation and obtain additional meeting information. Seating will be available on a first-come, first-served basis.

Input will be gathered orally, at the stakeholder meeting, and in writing via a subsequent Federal Register notice requesting comment. The oral comments will be documented by a transcription service provider.

FOR FURTHER INFORMATION CONTACT: Leslie Schwager, Office of Coin Studies at OfficeofCoinStudies@usmint.treas.gov, or by calling 202-354-6600.

Authority: 31 U.S.C. 5112(p)(3)(A); Public Law 111-302, section 2(a)(2).

Dated: January 29, 2014.
Richard A. Peterson,
Deputy Director, United States Mint.

[FR Doc. 2014-02332 Filed 2-3-14; 8:45 am]

BILLING CODE P